DEPARTMENT OF HOMELAND SECURITY

Federal Emergency Management Agency

Agency Information Collection Activities: Proposed Collection; Comment Request

AGENCY: Federal Emergency Management Agency, DHS.

ACTION: Notice; 60-day notice and request for comments; Revision of a currently approved collection, OMB Number: 1600-0034, FEMA Form 95-41.

SUMMARY: The Federal Emergency Management Agency, as part of its continuing effort to reduce paperwork and respondent burden, invites the general public and other Federal agencies to take this opportunity to comment on a continuing information collection. In accordance with the Paperwork Reduction Act of 1995, this notice seeks comments concerning the Emergency Management Institute Residential Course Evaluation Form, which is used to evaluate the quality of course deliveries, facilities, and instructors at the Emergency Management Institute (EMI).

SUPPLEMENTARY INFORMATION: The EMI develops courses and administers resident and nonresident training programs in areas such as natural hazards, technical hazards, instructional methodology, professional development, leadership, exercise design and evaluation, information technology, public information, integrated emergency management, and train-the-trainer. In order to meet current information needs of EMI staff and management, EMI uses course evaluation forms to identify problems with course materials, delivery, facilities, and instructors. The course evaluations will enable them to recommend changes in course materials, student selection criteria, training experience and classroom environment. The Robert T. Stafford Disaster Relief and Emergency Assistance Act (Pub. L. 93-288, Section 611, 42 U.S.C. 5196) as amended, authorizes training programs for emergency preparedness for State, local and tribal government personnel.

Collection of Information

Title: Emergency Management Institute Residential Course Evaluation Form.

Type of Information Collection: Revision of a currently approved collection.

OMB Number: 1660-0034.

Form Numbers: FEMA Form 95-41, Emergency Management Institute Residential Course Evaluation Form.

Abstract: Students attending the Emergency Management Institute resident program courses at the Federal Emergency Management Agency's National Emergency Training Center will be asked to complete a course evaluation form upon completion of each course they attend. The information will be used by EMI staff and management to identify problems with course materials, and will evaluate the quality of the course delivery, facilities, and instructors.

Affected Public: State, Local, or Tribal Government, Individuals or households.

Estimated Total Annual Burden Hours: 11,817 burden hours.

Annual Hour Burden

Table A.12—Estimated Annualized Burden Hours and Costs
Type of respondent | Form name/form number | Number of respondents | Number of responses per respondent | Avg. burden per response (in hours) | Total annual burden (in hours) | Avg. hourly wage rate | Total annual respondent cost
State, Local or Tribal Government | FEMA Form 95-41 | 10,778 | 1 | 10 minutes (.167 hours) | 1,800 | $23.99 | $43,182.00
Individuals in Households | FEMA Form 95-41 | 100 | 1 | 10 minutes (.167 hours) | 17 | 19.56 | 332.52
Total |  | 11,778 |  |  | 1,817 hours |  | 43,514.52

Estimated Cost: The estimated total annual respondent cost based on wage rate categories is $43,514.52. The estimated annual cost to the Federal Government is $1,202,663.52.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before January 27, 2009.

ADDRESSES: Interested persons should submit written comments to Office of Management, Records Management Division, Federal Emergency Management Agency, 500 C Street, SW., Washington, DC 20472.

FOR FURTHER INFORMATION CONTACT: Contact Jacqueline Martin, Training Support Specialist at Emergency Management Institute, (301) 447-1216 for additional information. You may contact the Records Management Branch for copies of the proposed collection of information at facsimile number (202) 646-3347 or e-mail address: FEMA-Information-Collections@dhs.gov.

Alisa Turner,
Acting Director, Records Management Division, Office of Management, Federal Emergency Management Agency, Department of Homeland Security.

[FR Doc. E8-28339 Filed 11-26-08; 8:45 am]

BILLING CODE 9110-10-P